DEPARTMENT OF VETERANS AFFAIRS

Monetary Allowance for Outer Burial Receptacles

AGENCY: Department of Veterans Affairs.

ACTION: Notice.

SUMMARY: The Department of Veterans Affairs (VA) is providing notice of the monetary allowance amount payable for outer burial receptacles (OBR) for qualifying interments in a VA national cemetery or in a VA grant-funded veterans cemetery that occur during calendar year (CY) 2025. The allowance is equal to the average cost of Government-furnished graveliners less any administrative costs associated with processing and paying the allowance. The purpose of this notice is to inform interested parties of the average cost of Government-furnished graveliners, associated administrative costs, and the allowance amount payable for qualifying interments that occur in CY 2025.

DATES: This allowance amount is effective on January 1, 2025.

FOR FURTHER INFORMATION CONTACT: William Carter, Chief of Budget Execution Division, National Cemetery Administration, Department of Veterans Affairs, 810 Vermont Avenue NW, Washington, DC 20420, telephone: 202-461-9764 (this is not a toll-free number).

SUPPLEMENTARY INFORMATION: Section 2306(e) of title 38, United States Code, authorizes VA to provide an OBR for each new grave used for casketed remains in an open VA national cemetery or in a cemetery that is the subject of a grant to a State or Tribal Organization under 38 U.S.C. 2408. Section 2306(e)(4) authorizes VA to administer this benefit using a voucher system or other system of reimbursement in situations where an OBR is purchased or provided in lieu of a Government-furnished graveliner. VA administers the OBR monetary allowance in accordance with 38 CFR 38.629, which specifies when payment of the monetary allowance is authorized and how the allowance amount is determined each year and requires VA to post the amount of the allowance in the Notices section of the Federal Register. This notice serves the purpose of meeting that requirement for CY 2025.

The allowance for qualified interments that occur during CY 2025 is equal to the average cost of Government-furnished graveliners in fiscal year (FY) 2024, less the administrative cost incurred by VA in processing and paying the allowance in lieu of the Government-furnished graveliner.

The average cost of Government-furnished graveliners is determined by taking VA's total cost during a fiscal year for single-depth graveliners that were procured for placement at the time of interment and dividing it by the total number of such graveliners procured by VA during that fiscal year. The calculation excludes both graveliners pre-placed in gravesites as part of cemetery gravesite development projects and all double-depth graveliners. Using this method of computation, the average cost was determined to be $439.00 for FY 2024.

The administrative cost is based on the costs incurred by VA during CY 2024 that relate to processing and paying an allowance in lieu of the Government-furnished graveliner. This cost has been determined to be $9.00.

The allowance payable for qualifying interments occurring during CY 2025, therefore, is $430.00.

Signing Authority

Denis McDonough, Secretary of Veterans Affairs, approved and signed this document on December 5, 2024, and authorized the undersigned to sign and submit the document to the Office of the Federal Register for publication electronically as an official document of the Department of Veterans Affairs.

Luvenia Potts,
Regulation Development Coordinator, Office of Regulation Policy & Management, Office of the Secretary, Department of Veterans Affairs.

[FR Doc. 2024-29110 Filed 12-10-24; 8:45 am]

BILLING CODE 8320-01-P